CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal of its AmeriCorps*VISTA Project Progress Report (OMB Control Number 3045-0043), The previously approved Progress Report will expire on May 31, 2005.

This reinstatement with changes reflects the Corporation's intent to modify selected sections of the collection instrument to reflect changes in data considered “core reporting” information to meet a variety of needs, including adding new data elements as needed to ensure information collection captures appropriate data for the Corporation's required performance measurement and other reporting.

DATES: Written comments must be submitted to the office listed in the ADDRESSES section by May 2, 2005.

ADDRESSES: You may submit comments, identified by the title of the information collection activity, by any of the following methods:

(1) By mail sent to: Corporation for National and Community Service, Attn. Carol Rogers, Senior Program Specialist, Room 9201, 1201 New York Avenue, NW., Washington, DC 20525.

(2) By hand delivery or by courier to the Corporation's mailroom at Room 6010 at the mail address given in paragraph (1) above, between 9 a.m. and 4 p.m. Monday through Friday except Federal holidays.

(3) By fax to: (202) 565-2789, Attention Ms. Carol Rogers, Senior Program Specialist.

(4) Electronically through the Corporation's e-mail address system: crogers@cns.gov.

FOR FURTHER INFORMATION CONTACT: Carol Rogers (202) 606-5000, ext. 419, or by e-mail at crogers@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The Progress Report (PPR) was designed to assure that AmeriCorps*VISTA sponsors address and fulfill legislated program purposes, meet agency program management and grant requirements, and assess progress toward project plan goals agreed upon in the signing of the Memorandum of Agreement.

Current Action

The Corporation seeks to revise the previously used PPR to: (a) Enhance data elements collected via this information collection tool; (b) migrate the paper version of the form to the Corporation's electronic grants management system, eGrants; and (c) establish reporting periods consistent with the Corporation's integrated grants management and reporting policies.

The Corporation anticipates making available to all AmeriCorps*VISTA sponsors and grantees a revised PPR by April 1, 2005.

The revised PPR will be used by AmeriCorps*VISTA sponsors and grantees the report progress toward accomplishing work plan goals and objectives, reporting actual outcomes related to self-nominated performance measures meeting challenges encountered, describing significant activities, and requesting technical assistance. Submission requirements are proposed to remain unchanged: All projects will submit the PPR quarterly.

Type of Review: Renewal.

Agency: Corporation for National and Community Service.

Title: AmeriCorps*VISTA Project Progress Report.

OMB Number: 3045-0043.

Agency Number: None.

Affected Public: AmeriCorps*VISTA sponsoring organizations, site supervisors, and members.

Total Respondents: 1300.

Frequency: Quarterly.

Average Time Per Response: 14.7 hours.

Estimated Total Burden Hours: 19,110 hours.

Total Burden Cost (capital/startup): None.

Total Burden Cost (operating/maintenance): None.

Comments submitted in response to this notice will be summarized and/or included in the request for Office of Management and Budget approval of the information collection request; they will also become a matter of public record.

Dated: February 27, 2005.
Kathleen Ferguson,
Acting Director, AmeriCorps*VISTA.

[FR Doc. 05-4151 Filed 3-2-05; 8:45 am]

BILLING CODE 6050-$$-P